DEPARTMENT OF TRANSPORTATION

Federal Aviation Administration

14 CFR Parts 47 and 49

[Docket No.: FAA-2024-2764; Amdt. Nos. 47-35 and 49-12]

RIN 2120-AM07

Enforcement Policy Regarding “Aircraft Registration and Recordation Procedural Updates: Original Documents and Stamping”

AGENCY: Federal Aviation Administration (FAA), U.S. Department of Transportation (DOT).

ACTION: Notice of enforcement discretion.

SUMMARY: This notice announces that the FAA will not take enforcement action against regulated entities for failing to comply with the final rule titled “Aircraft Registration and Recordation Procedural Updates: Original Documents and Stamping” until March 20, 2025.

DATES: As of March 11, 2025, the enforcement for the rule published January 17, 2025, at 90 FR 5572 is delayed to March 20, 2025.

ADDRESSES: Electronic Access and Filing: This document, the notice of proposed rulemaking (NPRM), all comments received, the final rule, the other rulemaking-specific documents in the docket, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.Govinfo.gov.

FOR FURTHER INFORMATION CONTACT: Craig Whitbeck, Registry Services and Information Management Branch, Federal Aviation Administration, 6500 S MacArthur Blvd., Bldg. 29, Oklahoma City, OK 73169; telephone (405) 954-3131; email Craig.Whitbeck@faa.gov.

SUPPLEMENTARY INFORMATION: On January 17, 2025, the FAA issued a final rule titled “Aircraft Registration and Recordation Procedural Updates: Original Documents and Stamping” that was published in the Federal Register at 90 FR 5572. The final rule updated certain procedural regulations relating to civil aircraft registration and recordation to provide administrative relief from the requirements for submitting original documents and to sunset the FAA's practice of stamping documents. The final rule became effective on January 17, 2025.

On January 20, 2025, the President issued a memorandum titled “Regulatory Freeze Pending Review,” 90 FR 8249 (Jan. 28, 2025), to direct executive departments and agencies to consider postposing for 60 days the effective date for any rules that had been published in the Federal Register but had not taken effect for the purpose of reviewing any questions of fact, law, and policy that the rules may raise. While not explicitly subject to the President's memorandum, the FAA is providing notice that it will exercise its enforcement discretion and not enforce the provisions of the FAA's final rule titled “Aircraft Registration and Recordation Procedural Updates: Original Documents and Stamping” until March 20, 2025, to allow the officials appointed or designated by the President to review the final rule to ensure that it is consistent with the law and Administration policies.

Issued in Washington, DC.
Taneesha Dobyne Marshall,
Assistant Chief Counsel for Aviation Litigation, Federal Aviation Administration.

[FR Doc. 2025-03851 Filed 3-10-25; 8:45 am]

BILLING CODE 4910-59-P